DEPARTMENT OF COMMERCE

International Trade Administration

[C-357-821 and C-560-831]

Biodiesel From the Republic of Argentina and the Republic of Indonesia: Countervailing Duty Orders

Correction

In notice document 2017-28480, appearing on pages 522 through 523, in the issue of Thursday, January 4, 2018, make the following correction:

The table, on page 522, in the third column, eleven lines from the top, should read as set forth below.

| Subsidy rate (percent)
Exporters/producers from Argentina:
LDC Argentina S.A ¹ | 72.28
Vicentin S.A.I.C ² | 71.45
All Others | 71.87
Exporters/Producers from Indonesia:
Wilmar Trading Co., Ltd | 34.45
PT Musim Mas | 64.73
All Others | 38.95
¹ In the final determination, Commerce found the following companies to be cross-owned with LDC Argentina S.A.: LDC Semillas S.A., Semillas del Rosario S.A.
² In the final determination, Commerce found the following companies to be cross-owned with Vicentin S.A.I.C.: Oleaginosa San Lorenzo S.A., Los Amores S.A.

[FR Doc. C1-2017-28480 Filed 1-22-18; 8:45 am]

BILLING CODE 1301-00-D